DEPARTMENT OF ENERGY

Federal Energy Regulatory Commission

Combined Notice of Filings #1

Take notice that the Commission received the following electric rate filings:

Docket Numbers: ER10-2984-033.

Applicants: Merrill Lynch Commodities, Inc.

Description: Notice of Non-Material Change in Status of Merrill Lynch Commodities, Inc.

Filed Date: 1/23/17.

Accession Number: 20170123-5346.

Comments Due: 5 p.m. ET 2/13/17.

Docket Numbers: ER10-2984-034.

Applicants: Merrill Lynch Commodities, Inc.

Description: Notice of Non-Material Change in Status of Merrill Lynch Commodities, Inc.

Filed Date: 1/23/17.

Accession Number: 20170123-5351.

Comments Due: 5 p.m. ET 2/13/17.

Docket Numbers: ER13-2266-004.

Applicants: ISO New England Inc.

Description: Compliance Report for Reasonableness of 2013-2014 Winter Reliability Program Bid Result of ISO New England Inc.

Filed Date: 1/23/17.

Accession Number: 20170123-5336.

Comments Due: 5 p.m. ET 2/13/17.

Docket Numbers: ER16-2360-002.

Applicants: Great Western Wind Energy, LLC.

Description: Notice of Non-Material Change in Status of Great Western Wind Energy, LLC.

Filed Date: 1/23/17.

Accession Number: 20170123-5348.

Comments Due: 5 p.m. ET 2/13/17.

Docket Numbers: ER16-2363-002.

Applicants: Bluestem Wind Energy, LLC.

Description: Notice of Change in Status of Bluestem Wind Energy, LLC.

Filed Date: 1/23/17.

Accession Number: 20170123-5360.

Comments Due: 5 p.m. ET 2/13/17.

Docket Numbers: ER17-367-001.

Applicants: PJM Interconnection, L.L.C.

Description: Tariff Amendment: Response to Deficiency Letter in ER17-367-000 to be effective 1/19/2017.

Filed Date: 1/23/17.

Accession Number: 20170123-5301.

Comments Due: 5 p.m. ET 2/13/17.

Docket Numbers: ER17-539-000; ER17-540-000.

Applicants: Wildwood Solar I, LLC, Wildwood Solar II, LLC.

Description: Supplement to December 14, 2106 Wildwood Solar I, LLC and Wildwood Solar II, LLC tariff filings.

Filed Date: 1/19/17.

Accession Number: 20170119-5069.

Comments Due: 5 p.m. ET 2/2/17.

Docket Numbers: ER17-836-000.

Applicants: PJM Interconnection, L.L.C.

Description: § 205(d) Rate Filing: Queue Position AB2-029, Original Service Agreement No. 4612 to be effective 12/22/2016.

Filed Date: 1/23/17.

Accession Number: 20170123-5296.

Comments Due: 5 p.m. ET 2/13/17.

Docket Numbers: ER17-837-000.

Applicants: Midcontinent Independent System Operator, Inc.

Description: § 205(d) Rate Filing: 2017-01-23_SA 2930 ITC-Sugar Creek Amended GIA (J419) to be effective 1/24/2017.

Filed Date: 1/23/17.

Accession Number: 20170123-5299.

Comments Due: 5 p.m. ET 2/13/17.

Docket Numbers: ER17-838-000.

Applicants: NextEra Energy Power Marketing, LLC.

Description: § 205(d) Rate Filing: NextEra Energy Marketing, LLC Notice of Succession and Revisions to MBR Tariff to be effective 1/9/2017.

Filed Date: 1/23/17.

Accession Number: 20170123-5302.

Comments Due: 5 p.m. ET 2/13/17.

Docket Numbers: ER17-839-000.

Applicants: NorthWestern Corporation.

Description: Tariff Cancellation: Notice of Cancellation: SA 788, Agreement with Montana DOT (Lewistown Sidewalks) to be effective 1/25/2017.

Filed Date: 1/24/17.

Accession Number: 20170124-5025.

Comments Due: 5 p.m. ET 2/14/17.

Docket Numbers: ER17-840-000.

Applicants: NorthWestern Corporation.

Description: Tariff Cancellation: Notice of Cancellation: SA 789, Agreement with Jackson Contractor Group to be effective 1/25/2017.

Filed Date: 1/24/17.

Accession Number: 20170124-5026.

Comments Due: 5 p.m. ET 2/14/17.

Docket Numbers: ER17-841-000.

Applicants: Broadview Energy JN, LLC, Broadview Energy KW, LLC, Grady Wind Energy Center, LLC.

Description: Petition for Limited Waiver of Tariff Provision and Expedited Consideration of Broadview Energy JN, LLC, et al.

Filed Date: 1/23/17.

Accession Number: 20170123-5350.

Comments Due: 5 p.m. ET 2/13/17.

Docket Numbers: ER17-842-000.

Applicants: Midcontinent Independent System Operator, Inc.

Description: Request for Waiver of Midcontinent Independent System Operator, Inc.

Filed Date: 1/23/17.

Accession Number: 20170123-5354.

Comments Due: 5 p.m. ET 2/13/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 24, 2017.
Nathaniel J. Davis, Sr.,
Deputy Secretary.

[FR Doc. 2017-01938 Filed 1-27-17; 8:45 am]

BILLING CODE 6717-01-P